DEPARTMENT OF THE INTERIOR

Bureau of Land Management

[LLNVB02000-L19200000-ET0000; N-94970; LR0RF1709500; MO# 4500111101]

Notice of Application for Withdrawal in Nye County, Nevada

AGENCY: Bureau of Land Management, Interior.

ACTION: Notice.

SUMMARY: The United States Department of Energy Office of Legacy Management (DOE) has filed an application with the Bureau of Land Management (BLM), requesting that the Secretary of the Interior withdraw 361 acres of public lands to assist the DOE to carry out its responsibilities regarding public health, safety, and national security in connection with a past underground nuclear detonation in Hot Creek Valley, Nye County, Nevada. Publication of this Notice temporarily segregates the lands, subject to valid existing rights, for up to two years from all forms of appropriation or other disposition under the public land laws, including the mining laws and the mineral-leasing laws. The two-year segregation will provide the BLM and the DOE sufficient time to prepare an Environmental Assessment (EA) which will analyze the environmental effects of the requested withdrawal and any alternatives in order for the BLM to make a recommendation to the Secretary of Interior on the requested withdrawal.

DATES: Comments regarding this withdrawal proposal must be received by July 30, 2018. The BLM welcomes comments regarding the environmental consequences of the proposed withdrawal, for consideration in preparation of the EA.

ADDRESSES: Comments pertaining to this Notice should be submitted by any of the following methods:

• Email: BLM_NV_BMDO_Tonopah_Withdrawal@blm.gov.

• Fax: 775-482-7810.

• Mail: BLM Nevada State Director, Attn: NV 930 CNTA Withdrawal, Bureau of Land Management, 1340 Financial Boulevard, Reno, NV 89520.

FOR FURTHER INFORMATION CONTACT: Wendy Seley, Project Lead, Tonopah Field Office, Attn: DOE Withdrawal, 1553 South Main Street, P.O. Box 911, Tonopah, NV 89049; email: wseley@blm.gov. Persons who use a telecommunications device for the deaf (TDD) may call the Federal Relay Service (FRS) at 1-775-861-6511 to contact the above individual during normal business hours. The FRS is available 24 hours a day, 7 days a week, to leave a message or question with the above individual. You will receive a reply during normal business hours.

SUPPLEMENTARY INFORMATION: In order to fulfill its obligations under the Atomic Energy Act (AEA) of 1954 (42 U.S.C. 2201) regarding public health, safety, and national security in connection with a past underground nuclear detonation, the DOE requests that the 361 acres of public lands be withdrawn from all forms of appropriation or other disposition under the public land laws, including the mining laws and mineral leasing laws, subject to valid existing rights.

The AEA requires the DOE to take necessary measures to protect human health and the environment from nuclear contamination, and provides broad authority for the DOE to do so. The AEA states, in part, that DOE may “establish by rule, regulation, or order, such standards and instructions to govern the possession and use of special nuclear material, source material, and byproduct material as the Commission may deem necessary or desirable to promote the common defense and security or to protect health or to minimize danger to life or property” (42 U.S.C. 2201(b)).

This application is to withdraw lands adjacent to and surrounding land and interests withdrawn under Public Land Order (PLO) No. 4338, published in the Federal Register Volume 32, No. 241, December 14, 1967. The PLO established the Central Nevada Test Area (CNTA) for an underground nuclear test. The test, which was conducted in 1968, resulted in a determination that the site was unsuitable for further nuclear tests. DOE requests a new withdrawal of lands adjacent to and surrounding the 1967 withdrawal in order to prevent disturbance to residual subsurface contamination. The BLM will hold a 90-day scoping period to identify issues and begin preparing an EA to analyze the impacts of the proposed withdrawal.

As required by section 204(b)(1) of the Federal Land Policy and Management Act of 1976 (FLPMA), 43 U.S.C. 1714(b)(1), and the BLM regulations at 43 CFR part 2310.3-1, the BLM is publishing the Notice that DOE has requested the withdrawal of the following described lands:

Mount Diablo Meridian

T. 9 N. R. 51 E., Unsurveyed,

Sections 14, 15, 22, and 23. It is an irregular bounded portion of land being described as follows:

BEGINNING at a point which is north 35°15′30″ west, 14,986.1 feet from the southeast corner of township 9 north, range 51 east.

THENCE, north 89°43′10″ west, a distance of 6602.5 feet.

THENCE, north 0°16′30″ east, a distance of 6602.6 feet.

THENCE, south 89°43′10″ east, a distance of 6602.5 feet.

THENCE, south 0°17′20″ west, a distance of 6602.6 feet to the POINT OF BEGINNING.

BASIS OF BEARING: Mean geodetic bearings referenced to the true meridian.

EXCEPTING those portions withdrawn by PLO No. 4338 (UC-1 withdrawal).

The area encumbered by the existing withdrawal contains approximately 640 acres.

The area encumbered by the new withdrawal is 361 acres in Nye County.

This proposed withdrawal would fully encompass the use-restriction and compliance boundaries established by DOE. The objective of the compliance boundary is to protect the public and environment from exposure to groundwater contamination by the underground nuclear test. The objective of the use-restriction boundary is to restrict access to subsurface materials, including groundwater. The proposed withdrawal for 20 years would maintain the physical integrity of the subsurface environment, and would ensure that DOE's ongoing, long-term site characterization studies of the CNTA are not invalidated or otherwise adversely affected.

The use of a right-of-way, interagency agreement, or cooperative agreement would not adequately constrain non-discretionary uses which could result in permanent loss of significant values and threaten public health, safety, and Federal investment in the long-term monitoring program established for the CNTA.

There are no suitable alternative sites because the lands contain the specific area surrounding the underground nuclear test site, and Federal improvements described in the application.

No water rights will be required for this withdrawal.

The legal descriptions and the maps depicting the lands are available for public inspection at the following offices: BLM Nevada State Office, 1340 Financial Boulevard, Reno, Nevada 89502; BLM Tonopah Field Office, 1553 South Main Street, Tonopah, Nevada 89049.

Information regarding the proposed withdrawal will be available for public review at the BLM's Tonopah Field Office, during regular business hours, 7:30 a.m. to 4:30 p.m. Monday through Friday, except Federal holidays. Before including your address, phone number, email address, or other personally identifying information in your comment, you should be aware that your entire comment—including your personally identifying information—may be made publicly available at any time. While you can ask the BLM in your comment to withhold your personally identifying information from public review, we cannot guarantee that we will be able to do so.

For a period until May 1, 2020, subject to valid existing rights, the public lands described in this Notice is segregated, for up to two years, from all forms of appropriation under the public land laws, including the mining laws and the mineral-leasing laws, unless the application/proposal is denied or canceled or the withdrawal is approved prior to that date.

Licenses, permits, cooperative agreements, or discretionary land use authorizations may be allowed during the period of segregation, but only with the approval of the authorized officer and, as appropriate, with the concurrence of DOE.

Authority: 43 U.S.C. 1714(b)(1) and 43 CFR 2300

Michael J. Herder,
Acting State Director, Nevada.

[FR Doc. 2018-09180 Filed 4-30-18; 8:45 am]

BILLING CODE 4310-HC-P